DEPARTMENT OF DEFENSE

Department of the Army

Availability of Non-Exclusive, Exclusive License or Partially Exclusive Licensing of U.S. Patent Application Concerning Parachute Assembly

AGENCY: U.S. Army Soldier and Biological Chemical Command (SBCCOM), DoD.

ACTION: Notice.

SUMMARY: In accordance with 37 CFR Part 404.6, announcement is made of the availability for licensing of U.S. Patent No. US 6,328,263 B1 entitled “Parachute Assembly” issued December 11, 2001. This patent has been assigned to the United States Government as represented by the Secretary of the Army.

FOR FURTHER INFORMATION CONTACT: Mr. Robert Rosenkrans at U.S. Army Soldier and Biological Chemical Command, Kansas Street, Natick, MA 01760, Phone: (508) 233-4928 or E-mail: Robert Rosenkrans@natick.army.mil.

SUPPLEMENTARY INFORMATION: Any licenses granted shall comply with 35 U.S.C. 209 and 37 CFR part 404. The following Patent Number, Title and Issue date is provided:

Patent Number: US 6,328,263 B1.

Title: Parachute Assembly

Issue Date: December 11, 2001.

Luz D. Ortiz,
Army Federal Register Liaison Officer.

[FR Doc. 02-442 Filed 1-7-02; 8:45 am]

BILLING CODE 3710-08-M